DEPARTMENT OF HEALTH AND HUMAN SERVICES

National Institutes of Health

White House Commission on Complementary and Alternative Medicine Policy; Notice of Meeting

Pursuant to Section 10(a) of the Federal Advisory Committee Act, as amended (5 U.S.C. Appendix 2), notice is given of a meeting of the White House Commission on Complementary and Alternative Medicine Policy.

The purpose of the meeting is to convene the Commission for a public hearing to receive public testimony from individuals and organizations interested in the subject of Federal policy regarding complementary and alternative medicine. The major focus of the meeting is coverage and reimbursement by the private and public sectors for Complementary and Alternative (CAM) practices and products and the coordination of research on Complementary and Alternative Medicine practices and products. Comments received at the meeting may be used by the Commission to prepare the Report to the President as required by the Executive Order.

Invited speaker discussions focusing on the coverage and reimbursement for CAM practices and products on May 14-15 will include the following: Trends in the United States health care system including the underinsured and uninsured; Federal, state, and private sector providers' perspectives on the financing of health care and providing coverage and reimbursement for CAM practices and products; Employer coverage and reimbursement programs; and Health plans and CAM benefits. Invited speaker discussions focusing on the coordination of CAM research on May 15-16 will include the following: Not-for-profit support for CAM research; Approaches to evaluating research literature; Challenges of CAM research and research training—research methodology and the training of conventional and CAM research investigators; and Publication of peer-reviewed CAM research results.

Some Commission members may participate by telephone conference. Opportunities for oral statements by the public will be provided on May 16, from about 4:00 p.m.-5:00 p.m. (Time approximate).

Name of Committee: The White House Commission on Complementary and Alternative Medicine Policy.

Date: May 14-16, 2001.

Time: May 14—8:15 a.m.-6:00 p.m., May 15—8:15 a.m.-6:00 p.m., May 16—8:15 a.m.-5:00 p.m.

Place: Academy for Educational Development Conference Center, 1825 Connecticut Avenue, NW., Room 800, Washington, DC 20009-5721.

Contact Persons: Michele M. Chang, CMT, MPH, Executive Secretary, or, Stephen C. Groft, Pharm.D., Executive Director, 6701 Rockledge Drive, Room 1010, MSC 7707, Bethesda, MD 20817-7707, Phone: (301) 435-7592, Fax: (301) 480-1691, E-mail: WHCCAMP@mail.nih.gov.

Because of the need to obtain the views of the public on these issues as soon as possible and because of the early deadline for the report required of the Commission, this notice is being provided at the earliest possible time.

SUPPLEMENTARY INFORMATION: The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come, first serve basis. Members of the public who wish to present oral comment may register by faxing a request to register at 301-480-1691 or by accessing the website of the Commission at http://whccamp.hhs.gov no later than May 4, 2001.

Oral comments will be limited to five minutes, three minutes to make a statement and two minutes to respond to questions from Commission members. Due to time constraints, only one representative from each organization will be allotted time for oral testimony. The number of speakers and the time allotted may also be limited by the number of registrants. Priority may be given to participants who have not yet addressed the Commission at previous meetings. All requests to register should include the name, address, telephone number, and business or professional affiliation of the interested party, and should indicate the area of interest or question (as described above) to be addressed.

Any person attending the meeting who has not registered to speak in advance of the meeting will be allowed to make a brief oral statement during the time set aside for public comment if time permits, and at the Chairperson's discretion. Individuals unable to attend the meeting, or any interested parties, may send written comments by mail, fax, or electronically to the staff office of the Commission for inclusion in the public record.

When mailing or faxing written comments, please provide, if possible, an electronic version or on a diskette. Persons needing special assistance, such as sign language interpretation or other special accommodations, should contact the Commission staff at the address or telephone number listed above no later than May 4, 2001.

Dated: April 16, 2001.
LaVerne Y. Stringfield,
Director, Office of Federal Advisory Committee Policy.

[FR Doc. 01-9919 Filed 4-20-01; 8:45 am]

BILLING CODE 4140-01-M